DEPARTMENT OF THE TREASURY

Departmental Offices; Privacy Act of 1974, as Amended, System of Records Notice

AGENCY: Departmental Offices, Treasury.

ACTION: Notice of system of records.

SUMMARY: In accordance with the Privacy Act of 1974, as amended, 5 U.S.C. 552a, the Department of the Treasury gives notice that it proposes to add a new system of records to its inventory, “Treasury/DO .016—Multiemployer Pension Reform Act of 2014 (MPRA).” Treasury will use the system to account for all individuals eligible to vote in elections with respect to benefit suspensions under MPRA whose information is furnished by the plan sponsors proposing the benefit suspensions.

DATES: Comments must be received no later than April 15, 2016. This new system of records will be effective April 20, 2016 unless the Department receives comments that would result in a contrary determination.

ADDRESSES: You may submit comments electronically through the Federal eRulemaking Portal at http://www.regulations.gov, in accordance with the instructions on that site. Electronic submissions through www.regulations.gov are encouraged.

Comments may also be mailed to the Department of the Treasury, MPRA Office, 1500 Pennsylvania Avenue NW., Room 1224, Washington, DC 20220. Attn: Deva Kyle. Comments sent via facsimile and email will not be accepted.

Additional Instructions. All comments received, including attachments and other supporting materials, will be made available to the public. Do not include any personally identifiable information (such as Social Security number, name, address, or other contact information) or any other information in your comment or supporting materials that you do not want publicly disclosed. Treasury will make comments available for public inspection and copying on www.regulations.gov or upon request. Comments posted on the Internet can be retrieved by most Internet search engines.

FOR FURTHER INFORMATION CONTACT: Department of the Treasury, MPRA at (202) 622-1534 (not a toll-free number).

SUPPLEMENTARY INFORMATION: In accordance with the Privacy Act of 1974, 5 U.S.C. 552a, the Department of the Treasury proposes to establish a new system of records entitled “Treasury/DO .016—Multiemployer Pension Reform Act of 2014.” The systems are maintained to support the provision of ballot packages to individuals identified as participants or beneficiaries of deceased participants by plan sponsors that have submitted an application for suspension of benefits under the Multiemployer Pension Reform Act of 2014, and may be used to provide technical support to voters in connection with the ballots and to check the integrity of the election.

As required by 5 U.S.C. 552a(r) of the Privacy Act, a report on this new system of records has been provided to the committee on Oversight and Government Reform of the House of Representatives, the Committee on Homeland Security and Governmental Affairs of the Senate, and the Office of Management and Budget.

The proposed new system of records, entitled “Treasury/DO .016—Multiemployer Plan Reform Act of 2014” is published in its entirety below.

Dated: March 2, 2016.
Helen Goff Foster,
Deputy Assistant Secretary for Privacy, Transparency, and Records.

Treasury/DO .016

System name:

Multiemployer Pension Reform Act of 2014

System location:

System records are located at one or more service providers under contract with the Department of the Treasury, Departmental Offices, 1500 Pennsylvania Ave. NW., Washington, DC 20220.

Categories of individuals covered by the systems:

Individuals identified as participants or beneficiaries of deceased participants by plan sponsors that have submitted an application for suspension of benefits under the Multiemployer Pension Reform Act of 2014.

Categories of records in the systems:

Personal contact information, including, but not limited to:

• Mailing addresses;

• Phone numbers;

• Electronic mail (Email) addresses; and

• Information sufficient to tabulate electronic votes and check the integrity of voting systems.

Authority for maintenance of the systems:

Multiemployer Pension Reform Act of 2014, Division O of the Consolidated and Further Continuing Appropriations Act 2015, Public Law 113-235.

Purposes:

The system is maintained to support the provision of ballot packages to individuals identified as participants or beneficiaries of deceased participants by plan sponsors that have submitted an application for suspension of benefits under the Multiemployer Pension Reform Act of 2014, and may be used to provide technical support to voters in connection with the ballots and to check the integrity of the election.

Routine uses of records maintained in the systems, including categories of users and the purposes of such uses:

In addition to those disclosures generally permitted under 5 U.S.C. 552a(b) of the Privacy Act, all or a portion of the records or information contained in these systems may be disclosed outside Treasury as a routine use pursuant to 5 U.S.C. 552a(b)(3), as follows:

A. To the Department of Justice (including United States Attorneys' Offices) or other federal agencies conducting litigation or in proceedings before any court or adjudicative or administrative body, when it is relevant or necessary to the litigation and one of the following is a party to the litigation or has an interest in such litigation:

1. Treasury or any component thereof;

2. Any employee of Treasury in his/her official capacity;

3. Any employee of Treasury in his/her individual capacity where the Department of Justice or Treasury has agreed to represent the employee; or

4. The United States or any agency thereof.

B. To a congressional office in response to an inquiry made at the request of the individual to whom the record pertains.

C. To the National Archives and Records Administration or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. Treasury suspects or has confirmed that the security or confidentiality of information in the system of records has been compromised;

2. The disclosure made to such agencies, entities, and persons is reasonably necessary to assist in connection with Treasury's efforts to respond to the suspected or confirmed compromise and prevent, minimize, or remedy such harm.

F. To contractors and their agents, grantees, experts, consultants, fiscal agents, financial agents, and others performing or working on a contract, service, grant, cooperative agreement, or other assignment for Treasury, when necessary to accomplish an agency function related to the system of records. Individuals provided information under this routine use are subject to the same Privacy Act requirements and limitations on disclosure as are applicable to Treasury officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person authorizing the disclosure.

H. To federal agencies, councils, and offices, such as the Office of Personnel Management, the Merit Systems Protection Board, the Office of Management and Budget, the Federal Labor Relations Authority, the Government Accountability Office, the Financial Stability Oversight Council, and the Equal Employment Opportunity Commission in the fulfillment of these agencies' official duties.

I. To the news media and the public, with the approval of the Senior Agency Official for Privacy, or her designee, in consultation with counsel, when there exists a legitimate public interest in the disclosure of the information or when disclosure is necessary to preserve confidence in the integrity of Treasury or is necessary to demonstrate the accountability of Treasury's officers, employees, or individuals covered by the system, except to the extent it is determined that release of the specific information in the context of a particular case would constitute an unwarranted invasion of personal privacy.

K. To international, federal, state, local, tribal, or private entities for the purpose of the regular exchange of business contact information in order to facilitate collaboration for official business.

Policies and practices for storing, retrieving, accessing, retaining, and disposing of records in the system:

Storage:

Records in these systems are on paper and/or in digital or other electronic form. Digital and other electronic images are stored on a storage area network in a secured environment. Records, whether paper or electronic, may be stored in Departmental Offices or with one or more contracted service providers.

Retrievability:

Electronic information may be retrieved, sorted, and/or searched by email address, name of the individual, or other data fields previously identified in this notice.

Safeguards:

Information in these systems is safeguarded in accordance with applicable laws, rules, and policies, including Treasury Directive 85-01, Department of the Treasury Information Technology (IT) Security Program. Further, security protocols for these systems of records will meet multiple National Institute of Standards and Technology security standards from authentication to certification and authorization. Records in these systems of records will be maintained in a secure, password protected electronic system that will use security hardware and software to include multiple firewalls, active intruder detection, and role-based access controls. Additional safeguards will vary by component and program. All records are protected from unauthorized access through appropriate administrative, physical, and technical safeguards. These safeguards include restricting access to authorized personnel who have a “need to know,” using locks, and password protection identification features. Treasury file areas are locked after normal duty hours and the facilities are protected by security personnel who monitor access to and egress from Treasury facilities.

Retention and disposal:

Records are securely retained and disposed in accordance with Records Control Schedule N1-056-03-010, Item 1b2. Files will be retained for ten years. For records that become relevant to litigation, the files related to that litigation will be retained for the longer of ten years or three years after final court adjudication.

System manager(s) and address:

Deputy Assistant Secretary, Office of Tax Policy, 1500 Pennsylvania Avenue NW., Washington, DC 20220.

Notification procedure:

Individuals seeking notification of and access to any record contained in these systems of records, or seeking to contest its content, may submit a request in writing, in accordance with Treasury's Privacy Act regulations (located at 31 CFR 1.26), to the Freedom of Information Act (FOIA) and Transparency Liaison, whose contact information can be found at http://www.treasury.gov/FOIA/Pages/index.aspx under “FOIA Requester Service Centers and FOIA Liaison.” If an individual believes more than one bureau maintains Privacy Act records concerning him or her, the individual may submit the request to the Office of Privacy, Transparency, and Records, FOIA and Transparency, Department of the Treasury, 1500 Pennsylvania Ave. NW., Washington, DC 20220.

No specific form is required, but a request must be written and:

• Be signed and either notarized or submitted under 28 U.S.C. 1746, a law that permits statements to be made under penalty of perjury as a substitute for notarization;

• State that the request is made pursuant to the FOIA and/or Privacy Act disclosure regulations;

• Include information that will enable the processing office to determine the fee category of the user;

• Be addressed to the bureau that maintains the record (in order for a request to be properly received by the Department, the request must be received in the appropriate bureau's disclosure office);

• Reasonably describe the records;

• Give the address where the determination letter is to be sent;

• State whether or not the requester wishes to inspect the records or have a copy made without first inspecting them; and

• Include a firm agreement from the requester to pay fees for search, duplication, or review, as appropriate. In the absence of a firm agreement to pay, the requester may submit a request for a waiver or reduction of fees, along with justification of how such a waiver request meets the criteria for a waiver or reduction of fees found in the FOIA statute at 5 U.S.C. 552(a)(4)(A)(iii).

You may also submit your request online at https://rdgw.treasury.gov/foia/pages/gofoia.aspx and call 1-202-622-0930 with questions.

Record access procedures:

See “Notification procedure” above.

Contesting record procedures:

See “Notification procedure” above.

Record source categories:

Information contained in these systems is obtained from affected individuals and organizations.

Exemptions claimed for these systems:

None.

[FR Doc. 2016-05868 Filed 3-15-16; 8:45 am]

BILLING CODE 4810-25-P